CONSUMER PRODUCT SAFETY COMMISSION

[Docket No. 2011-0014]

Agency Information Collection Activities; Submission for OMB Review; Comment Request; Renewal of Generic Clearance for the Collection of Qualitative Feedback on Agency Service Delivery

AGENCY: Consumer Product Safety Commission.

ACTION: Notice.

SUMMARY: As required by the Paperwork Reduction Act of 1995, the Consumer Product Safety Commission (CPSC or Commission) announces that the Commission has submitted to the Office of Management and Budget (OMB) a request for extension of approval of a generic clearance for the collection of qualitative feedback on agency service delivery. OMB previously approved the collection of information under control number 3041-0148. OMB's most recent extension of approval will expire on November 30, 2023. On August 28, 2023, the CPSC published a notice in the Federal Register to announce the agency's intention to seek extension of approval of the collection of information. The Commission received no comments. Therefore, by publication of this notice, the Commission announces that CPSC has submitted to the OMB a request for extension of approval of that collection of information, without change.

DATES: Comments on this request for extension of approval of information collection requirements should be submitted by December 15, 2023.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB, also should be submitted electronically at: http://www.regulations.gov, under Docket No. CPSC-2023-0031, by any of the following methods:

Electronic Submissions: CPSC encourages you to submit electronic comments to the Federal eRulemaking Portal at: https://www.regulations.gov. Follow the instructions for submitting comments. CPSC typically does not accept comments submitted by electronic mail (email), except as described below.

Mail/Hand Delivery/Courier/Confidential Written Submissions: Submit comments by mail, hand delivery, or courier to: Office of the Secretary, Consumer Product Safety Commission, 4330 East West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit through this website: confidential business information, trade secret information, or other sensitive or protected information that you do not want to be available to the public. If you wish to submit such information, please submit it according to the instructions for mail/hand delivery/courier/confidential written submissions.

Docket: For access to the docket to read background documents or comments received, go to: https://www.regulations.gov; insert the docket number, CPSC-2023-0031, into the “Search” box; and follow the prompts.

FOR FURTHER INFORMATION CONTACT: Cynthia Gillham, Consumer Product Safety Commission, 4330 East West Highway, Bethesda, MD 20814; (301) 504-7791, or by email to: pra@cpsc.gov.

SUPPLEMENTARY INFORMATION: On August 28, 2023, the CPSC published a notice in the Federal Register to announce the agency's intention to seek extension of approval of the collection of information. 88 FR 58565. The Commission received no comments. CPSC seeks to renew the following currently approved collection of information:

Title: Generic Clearance for the Collection of Qualitative Feedback on Agency Service Delivery.

OMB Number: 3041-0148.

Type of Review: Renewal of collection.

Frequency of Response: On occasion.

Affected Public: Individuals and households, businesses and organizations, state local or tribal governments.

Estimated Annual Burden: CPSC will use a variety of instruments and platforms to collect information from respondents. CPSC estimates the burden of the collection of information as follows:

Type of collection | Number of respondents | Annual frequency per response | Hours per response | Total hours
Qualitative Surveys (3) | 600 | 1 | 0.25 | 150
Focus Groups | 200 | 1 | 4 | 800
Customer Satisfaction Surveys (3) | 600 | 1 | 0.25 | 150
Usability Tests | 200 | 1 | 0.5 | 100

Based on these estimates, the total estimated burden for the collection of information is estimated to be 1,200 hours annually. The annualized cost to respondents for the information collection is $51,684 (1,200 hours × $43.07/hr), as estimated from total compensation data available from the U.S. Bureau of Labor Statistics.¹

¹ Total hourly compensation for all civilian workers is estimated by the U.S. Bureau of Labor Statistics to be $43.07: “Employer Costs for Employee Compensation,” (https://www.bls.gov/news.release/archives/ecec_06162023.pdf (March 2023)).

Description of Collection: Executive Order 12862 (Sept. 11, 1993) encourages independent Federal agencies such as CPSC to provide service to the public that matches or exceeds the best service available in the private sector. To that end, CPSC seeks to renew OMB approval of a generic clearance to collect qualitative feedback on CPSC service delivery. Qualitative feedback means information that provides useful insights on perceptions and opinions but does not include statistical surveys that yield quantitative results that can be generalized to the population of study. This collection of information is necessary to enable CPSC to garner customer and stakeholder feedback in an efficient, timely manner, in accordance with CPSC's commitment to improving service delivery.

This feedback will provide insights into customer or stakeholder perceptions, experiences, and expectations; provide an early warning of issues with service; and help focus attention on areas where communication, training, or changes in operations might improve delivery of products or services. These collections will also allow for ongoing, collaborative, and actionable communications between CPSC and its customers and stakeholders.

Alberta E. Mills,
Secretary, Consumer Product Safety Commission.

[FR Doc. 2023-25191 Filed 11-14-23; 8:45 am]

BILLING CODE 6355-01-P